SECURITIES AND EXCHANGE COMMISSION

[File No. 500-1]

In the Matter of Emergent Health Corp.; Order of Suspension of Trading

September 30, 2009.

It appears to the Securities and Exchange Commission that there is a lack of current and accurate information concerning the securities of Emergent Health Corp. because questions have arisen regarding the company's issuance of stock and trading in the company's stock.

The Commission is of the opinion that the public interest and the protection of investors require a suspension of trading in the securities of the above-listed company.

Therefore, it is ordered, pursuant to Section 12(k) of the Securities Exchange Act of 1934, that trading in the securities of the above-listed company is suspended for the period from 9:30 a.m. EDT on September 30, 2009, through 11:59 p.m. EDT, on October 13, 2009.

By the Commission.
Elizabeth M. Murphy,
Secretary.

[FR Doc. E9-23882 Filed 9-30-09; 11:15 am]

BILLING CODE 8011-01-P